DEPARTMENT OF COMMERCE

International Trade Administration

[A-583-831]

Certain Stainless Steel Sheet and Strip in Coils From Taiwan: Extension of Final Determination of Antidumping Duty Administrative Review

AGENCY: Import Administration, International Trade Administration, Department of Commerce.

ACTION: Notice of extension of time limit for final determination of antidumping duty administrative review.

SUMMARY: The Department of Commerce (“the Department”) is extending the time limit for the final determination of the review of stainless steel sheet and strip in coils from Taiwan. This review covers the period June 8, 1999 through June 30, 2000.

EFFECTIVE DATE: November 1, 2001.

FOR FURTHER INFORMATION CONTACT: Stephen Bailey, Enforcement Group III—Office 9, Import Administration, International Trade Administration, U.S. Department of Commerce, 14th Street and Constitution Avenue, NW., Washington, DC 20230; telephone (202) 482-1102.

SUPPLEMENTARY INFORMATION:

Applicable Statute

Unless otherwise indicated, all citations to the Tariff Act of 1930, as amended (“the Act”), are to the provisions effective January 1, 1995, the effective date of the amendments made to the Act by the Uruguay Round Agreements Act (“URAA”). In addition, unless otherwise indicated, all citations to the Department's regulations are to 19 CFR part 351 (2000).

Background

On September 6, 2000, the Department published a notice of initiation of this antidumping duty administrative review for the period of January 4, 1999 through June 30, 2000 (65 FR 53980). On November 30, 2000, the Department published a notice of initiation of this antidumping duty administrative review for the correct period of June 8, 1999 through June 30, 2000.

Extension of Time Limit for Preliminary Results

Section 751(a)(3)(A) of the Act states that if it is not practicable to complete the review within the time specified, the administering authority may extend the 120-day period, following the date of publication of the preliminary determination, to issue its final results by an additional 60 days. Completion of the final results within the 120-day period is not practicable for the following reasons:

• This review involves certain complex issues (i.e., identification of home market sales).

• Yieh United Steel Corporation has been instructed to revise certain significant portions of its responses during this review.

• The review involves a large number of transactions and complex adjustments.

• The review involves middleman dumping issues.

Therefore, in accordance with section 751(a)(3)(A) of the Act, the Department is extending the time period for issuing the final determination of review by 60 days until February 4, 2002.

Dated: October 25, 2001.
Edward C. Yang,
Acting Deputy Assistant Secretary for Import Administration.

[FR Doc. 01-27394 Filed 10-31-01; 8:45 am]

BILLING CODE 3510-DS-P